ENVIRONMENTAL PROTECTION AGENCY

[EPA-HQ-OPP-2005-0163; FRL-9351-4]

Aldicarb; Cancellation Order for Amendments To Terminate Uses; Correction

AGENCY: Environmental Protection Agency (EPA).

ACTION: Notice; correction.

SUMMARY: EPA issued a notice in the Federal Register of May 9, 2012, concerning an amendment to terminate uses of aldicarb. This document is being issued to correct a typographical error.

FOR FURTHER INFORMATION CONTACT: Susan Bartow, Pesticide Re-evaluation Division (7508P), Office of Pesticide Programs, Environmental Protection Agency, 1200 Pennsylvania Ave. NW., Washington, DC 20460-0001; telephone number: (703) 603-0065; email address: bartow.susan@epa.gov.

SUPPLEMENTARY INFORMATION:

I. General Information

A. Does this action apply to me?

The Agency included in the notice a list of those who may be potentially affected by this action. If you have questions regarding the applicability of this action to a particular entity, consult the person listed under FOR FURTHER INFORMATION CONTACT.

B. How can I get copies of this document and other related information?

EPA has established a docket for this action under docket identification (ID) number EPA-HQ-OPP-2005-0163. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What does this correction do?

The preamble for FR Doc. 2012-11072 published in the Federal Register of May 9, 2012 (77 FR 27226) (FRL-9348-2) is corrected as follows: On page 27227, first column of Table 1, under the heading EPA Registration Number, correct 264-333 to read 264-330.

List of Subjects

Environmental protection, pesticides and pests.

Dated: May 17, 2012.
Richard P. Keigwin, Jr.,
Director, Pesticide Re-evaluation Division, Office of Pesticide Programs.

[FR Doc. 2012-12774 Filed 5-24-12; 8:45 am]

BILLING CODE 6560-50-P